DEPARTMENT OF COMMERCE

National Oceanic and Atmospheric Administration

National Sea Grant Advisory Board

AGENCY: National Oceanic and Atmospheric Administration, Commerce.

ACTION: Notice of solicitation for nominations for potential National Sea Grant Advisory Board members and notice of public meeting.

SUMMARY: This notice responds to Section 209 of the Sea Grant Program Improvement Act of 1976 (Public Law 94-461, 33 U.S.C. 1128), which requires the Secretary of Commerce to solicit nominations at least once a year for membership on the National Sea Grant Advisory Board, a Federal Advisory Committee that provides advice on the implementation of the National Sea Grant College Program. This notice also sets forth the schedule and proposed agenda of a forthcoming meeting of the National Sea Grant Advisory Board.

DATES: Solicitation of nominations is open ended. Resumes may be sent to the address specified at any time. The announced meeting is scheduled for Monday, March 5, 2012 from 8:00 a.m. to 5:00 p.m. EST and Tuesday, March 6, 2012, from 8:30 a.m. to 3:00 p.m. EST.

ADDRESSES: Nominations should be sent to Ms. Elizabeth Ban, Designated Federal Officer, National Sea Grant College Program, National Oceanic and Atmospheric Administration, 1315 East-West Highway, Room 11843, Silver Spring, Maryland 20910, (301) 734-1082.

The March meeting will be held at The Melrose Hotel, 2430 Pennsylvania Avenue NW., Washington, DC 20037.

Status: The meeting will be open to public participation with a 15-minute public comment period on March 5 at 4:30 p.m. EST (check Web site to confirm time.) The Board expects that public statements presented at its meetings will not be repetitive of previously submitted verbal or written statements. In general, each individual or group making a verbal presentation will be limited to a total time of three (3) minutes. Written comments should be received by the Designated Federal Officer by February 27, 2012 to provide sufficient time for Board review. Written comments received after February 27, 2012, will be distributed to the Board, but may not be reviewed prior to the meeting date. Seats will be available on a first-come, first-serve basis.

FOR FURTHER INFORMATION CONTACT: Ms. Elizabeth Ban, Designated Federal Officer, National Sea Grant College Program, National Oceanic and Atmospheric Administration, 1315 East-West Highway, Room 11843, Silver Spring, Maryland 20910, (301) 734-1082.

SUPPLEMENTARY INFORMATION: Established by Section 209 of the Act and as amended the National Sea Grant College Program Amendments Act of 2008 (Public Law 110-394), the duties of the Board are as follows:

(1) In general. The Board shall advise the Secretary and the Director concerning:

(A) Strategies for utilizing the sea grant college program to address the Nation's highest priorities regarding the understanding, assessment, development, management, utilization, and conservation of ocean, coastal, and Great Lakes resources.

(B) The designation of sea grant colleges and sea grant institutes.

(C) Such other matters as the Secretary refers to the Board for review and advice.

(2) Biennial Report. The Board shall report to the Congress every two years on the state of the national sea grant college program. The Board shall indicate in each such report the progress made toward meeting the priorities identified in the strategic plan in effect under section 204 (c). The Secretary shall make available to the Board such information, personnel, and administrative services and assistance as it may reasonably require to carry out its duties under this title. The Secretary shall make available to the Board such information, personnel, and administrative services and assistance as it may reasonably require to carry out its duties.

The Board shall consist of 15 voting members who shall be appointed by the Secretary. The Director and a director of a sea grant program who is elected by the various directors of sea grant programs shall serve as nonvoting members of the Board. Not less than 8 of the voting members of the Board shall be individuals who, by reason of knowledge, experience, or training, are especially qualified in one or more of the disciplines and fields included in marine science. The other voting members shall be individuals who, by reason of knowledge, experience, or training, are especially qualified in, or representative of, education, marine affairs and resource management, coastal management, extension services, State government, industry, economics, planning, or any other activity which is appropriate to, and important for, any effort to enhance the understanding, assessment, development, management, utilization, or conservation of ocean, coastal, and Great Lakes resources. No individual is eligible to be a voting member of the Board if the individual is (A) the director of a sea grant college or sea grant institute; (B) an applicant for, or beneficiary (as determined by the Secretary) of, any grant or contract under section 205 [33 USCS § 1124]; or (C) a full-time officer or employee of the United States.

The Director of the National Sea Grant College Program and one Director of a Sea Grant Program also serve as non-voting members. Board members are appointed for a 4-year term.

The agenda for the meeting can be found at: http://www.seagrant.noaa.gov/leadership/advisory_board.html.

Special Accommodations: These meetings are physically accessible to people with disabilities. Requests for sign language interpretation or other auxiliary aids should be directed to Elizabeth Ban, Designated Federal Officer at 301-734-1082 by February 22, 2012.

Dated: February 17, 2012.
Mark E. Brown,
Chief Financial Officer/Chief Administrative Officer, Office of Oceanic and Atmospheric Research, National Oceanic and Atmospheric Administration.

National Sea Grant Advisory Board (NSGAB) Spring Meeting

March 5-6, 2012

Agenda

The Melrose Hotel, Potomac II, 2430 Pennsylvania Avenue NW., Washington, DC 20037.

Monday, March 5

8:00 a.m.-5:00 p.m.—Open to Public

8:00 Introductions, review agenda, approval of minutes, etc. (Nancy Rabalais, Chair, NSGAB)

8:15 Chair's update (N. Rabalais, NSGAB)

8:30 NSGO report (Leon Cammen, National Sea Grant Office—NSGO)

9:15 SGA report (Jonathan Pennock, President, Sea Grant Association)

9:45 Break—15 minutes

10:00 Sea Grant Reauthorization Planning (Rollie Schmitten, NSGAB)

10:45 Sea Grant Charter Renewal (N. Rabalais, NSGAB)

11:15 Discussion of morning topics and review of Board Assignments

12:00 Lunch

1:00 Biennial Report Discussion (Dick West, NSGAB)

2:30 Break—15 minutes

2:45 SAB Meeting notes (D. West, NSGAB)

3:00 Focus Team liaison reports

—Hazard Resilience in Coastal Communities (Mike Liffman, NSGO)

—Healthy Coastal Ecosystems (Dorn Carlson, NSGO)

—Safe and Sustainable Seafood Supply (Amy Scaroni, NSGO)

—Sustainable Coastal Development (Joshua Brown, NSGAB)

3:30 Sea Grant Week update (Harry Simmons, NSGAB)

4:00 Discussion of afternoon topics

4:30 Public Comment Period (15 minutes)

4:45 Wrap-up (N. Rabalais, NSGAB)

5:00 Adjourn

6:00 Sea Grant Knauss Fellowship Reception Rayburn House Office Building Rooms B338/B339

Tuesday, March 6

8:30 a.m.-3:00 p.m.—Open to Public

8:30 Call to Order, review agenda and previous day's discussions (N. Rabalais, NSGAB)

8:45 NOAA, Department of Commerce and Department of the Interior (N. Rabalais, NSGAB and L. Cammen, NSGO)

9:30 NOAA Research Portfolio (N. Rabalais, NSGAB)

10:00 Break—15 minutes

10:15 Performance Review Panel (PRP) (Sami Grimes, NSGO)

10:45 Strategic Plan update (D. Vortmann, NSGAB, Kola Garber, NSGO)

11:00 Dr. Robert Detrick, Assistant Administrator for NOAA Research and Craig McLean, Deputy Assistant Administrator for NOAA Research (Joint Session with SGA in Potomac III)

12:00 Lunch

1:00 Stuart Levenbach, Office of Management and Budget, NOAA Program Examiner (Joint Session with SGA in Potomac III)

2:00 Virginia Tippie, Coastal America (Joint Session with SGA in Potomac III)

2:30 Sea Grant and the Draft Implementation Action Plan of the National Ocean Policy follow-up (N. Rabalais, NSGAB)

2:45 Discussion of meeting topics and next steps

3:00 Adjourn

[FR Doc. 2012-4219 Filed 2-22-12; 8:45 am]

BILLING CODE 3510-KA-P